INTERNATIONAL TRADE COMMISSION

[Investigation No. 337-TA-616]

In the Matter of Certain Hard Disk Drives, Components Thereof, and Products Containing the Same; Notice of Commission Determination Not To Review Initial Determination Granting Complainants' Motion To Terminate the Investigation Based on Withdrawal of the Complaint

AGENCY: U.S. International Trade Commission.

ACTION: Notice.

SUMMARY: Notice is hereby given that the U.S. International Trade Commission has determined not to review the initial determination (“ID”) (Order No. 17) of the presiding administrative law judge (“ALJ”) granting complainants’ motion to terminate the investigation based on withdrawal of the complaint in the above-captioned investigation under section 337 of the Tariff Act of 1930, as amended, 19 U.S.C. 1337 (“section 337”).

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On October 15, 2007, the Commission instituted the above-captioned investigation based upon a complaint filed on September 10, 2007, by Steven F. Reiber and Mary L. Reiber of Lincoln, CA. 72 FR 58335-36 (October 15, 2007). The complaint alleges violations of section 337 in the importation into the United States, the sale for importation, and the sale within the United States after importation of certain hard disk drives, components thereof, and products containing the same by reason of infringement of certain claims of U.S. Patent Nos. 6,354,479; 6,651,864; and 6,935,548. The complaint named five respondents: Western Digital Corporation of Lake Forest, CA; Seagate Technology of Scotts Valley, CA; Toshiba American Information Systems, Inc. of Irvine, CA; Hewlett-Packard Company of Palo Alto, CA; and Dell Inc. of Round Rock, TX. The complaint further alleged that an industry in the United States exists as required by subsection (a)(2) of section 337.

On April 30, 2008, Complainants filed a motion to terminate the investigation based on withdrawal of the complaint. The Commission Investigative Attorney filed a response in support of Complainants' motion on May 12, 2008. Also on May 12, 2008, Respondents filed a joint response to Complainants' motion in which they opposed termination of the investigation until pending motions regarding summary determination, attorneys fees, and sanctions, filed May 5, 2008, have been ruled upon.

On May 13, 2008, the ALJ issued the subject ID granting Complainants' motion to terminate the investigation based on withdrawal of the complaint, pursuant to Commission Rule 210.21(a)(1). No petitions for review of the ID were filed. The Commission has determined not to review the subject ID.

This action is taken under the authority of section 337 of the Tariff Act of 1930, as amended (19 U.S.C. 1337), and sections 210.41(a) and 210.42(h)(3), of the Commission's Rules of Practice and Procedure (19 CFR 210.41(a), 210.42(h)(3)).

By order of the Commission.
Issued: June 11, 2008.
Marilyn R. Abbott,
Secretary to the Commission.

[FR Doc. E8-13462 Filed 6-13-08; 8:45 am]

BILLING CODE 7020-02-P